DEPARTMENT OF HOMELAND SECURITY

[Docket Number DHS-2023-0026]

Agency Information Collection Activities: Contractor Fitness/Security Screening Request Form; OMB Control No. 1601-NEW

AGENCY: Department of Homeland Security (DHS).

ACTION: 60-Day notice and request for comments.

SUMMARY: The Department of Homeland Security will submit the following Information Collection Request (ICR) to the Office of Management and Budget (OMB) for review and clearance in accordance with the Paperwork Reduction Act of 1995.

DATES: Comments are encouraged and will be accepted until October 16, 2023. This process is conducted in accordance with 5 CFR 1320.1

ADDRESSES: You may submit comments, identified by docket number Docket # DHS-2023-0026, at:

○ Federal eRulemaking Portal: http://www.regulations.gov. Please follow the instructions for submitting comments.

Instructions: All submissions received must include the agency name and docket number Docket # DHS-2023-0026. All comments received will be posted without change to http://www.regulations.gov, including any personal information provided.

Docket: For access to the docket to read background documents or comments received, go to http://www.regulations.gov

SUPPLEMENTARY INFORMATION:

This information collection will be used to initiate the fitness screening process for determining if a person invited to perform work under a contract for the Department of Homeland Security (DHS), is fit to perform such work and eligible for access to DHS resources, based on the risk levels of the designated position. The respondent provides and/or verifies biographical information to complete Section II of DHS Form 11000-25. This collection of information is necessary to initiate the contractor fitness screening process for determining whether a person (i.e., the respondent) who has been invited to perform work under a contract for, or on behalf of the Department of Homeland Security (DHS), should be deemed fit to perform such work and eligible for logical and/or physical access to DHS resources based on the risk levels of the designated position. The respondent is responsible for providing and/or verifying information to complete Section II of DHS Form 11000-25; the remaining sections of DHS Form 11000-25 (Sections I, III, and IV) are completed by DHS federal employees. Authorities that that support this information collection include:

• Executive Order (E.O.) 9397, Numbering System for Federal Accounts Relating to Individual Persons, as amended by E.O. 13478, Amendments to E.O. 9397 Relating to Federal Agency Use of Social Security Numbers

• E.O. 10577, Amending the Civil Service Rules and Authorizing a New Appointment System for the Competitive Service

• E.O. 13467, Reforming Processes Related to Suitability for Government Employment, Fitness for Contractor Employees, and Eligibility for Access to Classified National Security Information

• E.O. 13764, Amending the Civil Service Rules, Executive Order 13488, and Executive Order 13467 To Modernize the Executive Branch-Wide Governance Structure and Processes for Security Clearances, Suitability and Fitness for Employment, and Credentialing, and Related Matters

• Title 5, Code of Federal Regulations (CFR), part 731, Suitability

• Title 5, CFR, part 732, National Security Positions

• Federal Acquisition Regulation (FAR) 52.204-2, Security Requirements

• FAR 52.204-9, Personal Identity Verification of Contractor Personnel

• Homeland Security Presidential Directive 12

This is a new information collection. DHS collects this information from the respondent, so Personnel Security entities can initiate the appropriate screening process for determining whether the respondent should be deemed fit to perform work under a contract for, or on behalf of DHS, and eligible for logical and/or physical access to DHS resources based on the risk levels of the designated position.

This information collection utilizes an automated technological solution (i.e., Personnel Security Forms application) which negates the need for a paper-based DHS Form 11000 25, thereby reducing the burden on the respondent during the initiation phase of the contractor fitness screening process. After receiving an invitation to perform work under a contact, the respondent (i.e., DHS contractor applicant) submits and verifies certain biographical information (e.g., full name, position title, SSN, gender, date and place of birth, U.S. citizenship status, telephone number, and email address) through a public facing web portal. Once the information intake is complete, the Personnel Security Forms application produces an automated electronic version of the DHS Form 11000-25 for use by the appropriate Personnel Security entities to make a fitness determination.

This information collection does not have an impact on small businesses or other small entities.

The information collection for DHS Form 11000-25 is voluntary; however, failure to provide this information may delay or prevent an individual's fitness determination and eligibility for physical and logical access to federally controlled facilities or information systems.

There is no assurance of confidentiality provided to the respondents. Consistent with DHS' information sharing mission, all or a portion of the information collection may be disclosed outside DHS consistent with the routine uses set forth in Privacy Impact Assessment, DHS/ALL/PIA-038, Integrated Security Management System (ISMS), and System of Record Notice, DHS/ALL-023 Department of Homeland Personnel Security Management.

This is a new collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: Contractor Fitness/Security Screening Request Form.

OMB Number: 1601-NEW.

Frequency: Annually.

Affected Public: Individuals or Households.

Number of Respondents: 45,000.

Estimated Time per Respondent: 15 mins.

Total Burden Hours: 11,250 Hrs.

Robert Dorr,
Acting Executive Director, Business Management Directorate.

[FR Doc. 2023-17504 Filed 8-14-23; 8:45 am]

BILLING CODE 9112-FL-P